DEPARTMENT OF COMMERCE

National Oceanic and Atmospheric Administration

RIN 0648-XC233

Pacific Fishery Management Council; Public Meeting; Work Session To Review Proposed Salmon Methodology Changes

AGENCY: National Marine Fisheries Service (NMFS), National Oceanic and Atmospheric Administration (NOAA), Commerce.

ACTION: Notice of a public meeting.

SUMMARY: The Pacific Fishery Management Council's Salmon Technical Team (STT), Scientific and Statistical Committee (SSC) Salmon Subcommittee, and Model Evaluation Workgroup (MEW) will review proposed salmon methodology changes in a joint work session, which is open to the public.

DATES: The work session will be held Wednesday, October 10, 2012, from 9 a.m. to 4:30 p.m., and Wednesday, October 11, 2012 from 9 a.m. to 3 p.m.

ADDRESSES: The work session will be held at the Shilo Inns Suites Hotel, Willamette 1 Room, 11707 NE Airport Way, Portland, OR 97220.

Council address: Pacific Fishery Management Council, 7700 NE Ambassador Place, Suite 101, Portland, OR 97220-1384; telephone: (503) 820-2280.

FOR FURTHER INFORMATION CONTACT: Mr. Mike Burner, Salmon Management Staff Officer, Pacific Fishery Management Council; telephone: (503) 820-2280.

SUPPLEMENTARY INFORMATION: The purpose of the work session is to discuss and review proposed changes to analytical methods used in salmon management. Potential topics for the work session include but are not limited to; bias-correction methods for mark-selective coho fisheries, size limit evaluation methods for Chinook fisheries, and a preliminary assessment of abundance-based management of California Coastal Chinook. The final list of topics for the work session is scheduled to be adopted by the Council at their September 13-18, 2012 meeting in Boise, ID.

Although non-emergency issues not contained in the meeting agenda may come before the STT, SSC Salmon Subcommittee, and MEW for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: September 18, 2012.
Tracey L. Thompson,
Acting Deputy Director, Office of Sustainable Fisheries, National Marine Fisheries Service.

[FR Doc. 2012-23309 Filed 9-20-12; 8:45 am]

BILLING CODE 3510-22-P